DEPARTMENT OF COMMERCE

National Oceanic and Atmospheric Administration

RIN 0648-XH001

North Pacific Fishery Management Council; Public Meeting

AGENCY: National Marine Fisheries Service (NMFS), National Oceanic and Atmospheric Administration (NOAA), Commerce.

ACTION: Notice of public meeting.

SUMMARY: The North Pacific Fishery Management Council (Council) Fishery Monitoring Advisory Committee will meet May 20, 2019 through May 21, 2019.

DATES: The meeting will be held on Monday, May 20, 2019, from 8 a.m. to 5 p.m. and on Tuesday, May 21, 2019, from 8 a.m. to 5 p.m. Pacific Standard Time.

ADDRESSES: The meeting will be held in Building 4, at the Alaska Fisheries Science Center, 7600 Sand Point Way NE, Seattle, WA 98115. Teleconference number: (907) 245-3900; pin 2809.

Council address: North Pacific Fishery Management Council, 605 W 4th Ave. Suite 306, Anchorage, AK 99501-2252; telephone (907) 271-2809.

FOR FURTHER INFORMATION CONTACT: Elizabeth Figus, Council staff; telephone: (907) 271-2809.

SUPPLEMENTARY INFORMATION:

Agenda

Monday, May 20, 2019 to Tuesday, May 21, 2019

The agenda will include: presentation of the 2018 Observer Program Annual Report; discussion of EM updates (including latest developments from the trawl EM Committee and EM cost allocation); review of the FMAC partial coverage Subgroup report; updates about ongoing issues (e.g., contracting, insurance, the deck sorting proposed rule); review of the Analytical Task Status document; and, other items at the discretion of the Chair.

The Agenda is subject to change, and the latest version will be posted at meetings.npfmc.org/Meeting/Details/743 prior to the meeting, along with meeting materials.

Public Comment

Public comment letters will be accepted and should be submitted either electronically to meetings.npfmc.org/Meeting/Details/743 or through the mail: North Pacific Fishery Management Council, 605 W 4th Ave. Suite 306, Anchorage, AK 99501-2252. In-person oral public testimony will be accepted at the discretion of the chair.

Special Accommodations

These meetings are physically accessible to people with disabilities. Requests for sign language interpretation or other auxiliary aids should be directed to Shannon Gleason at (907) 271-2809 at least 7 working days prior to the meeting date.

Dated: April 30, 2019.
Rey Israel Marquez,
Acting Deputy Director, Office of Sustainable Fisheries, National Marine Fisheries Service.

[FR Doc. 2019-09070 Filed 5-2-19; 8:45 am]

BILLING CODE 3510-22-P